DEPARTMENT OF AGRICULTURE

Natural Resources Conservation Service

Project: Pigeon Roost Creek Watershed, Floodwater Retarding Structure #3, Jackson County, KY

AGENCY: Natural Resources Conservation Service.

ACTION: Notice of a Finding of No Significant Impact.

SUMMARY: Pursuant to section 102(2)(c) of the National Environmental Policy Act of 1969: the Council of Environmental Quality Regulations (40 CFR part 1500); and the Natural Resources Conservation Service Regulations (7 CFR part 650); the Natural Resources Conservation Service, U.S. Department of Agriculture, gives notice that an environmental impact statement is not being prepared for the Pigeon Roost Watershed, Jackson County, Kentucky.

FOR FURTHER INFORMATION CONTACT: David G. Sawyer, State Conservationist, Natural Resource Conservation Service, 771 Corporate Drive, Suite 210, Lexington, KY 40503-5479, telephone (859)-224-7350.

SUPPLEMENTARY INFORMATION: The recently updated Pigeon Roost Creek Watershed Plan/Environmental Assessment analyzed the installation of a floodwater retarding structure within the Pigeon Roost Creek Watershed in Jackson County, Kentucky. This project is a federally-assisted action and the completed Watershed Plan/EA has indicated that the project will not cause significant local, regional, or national impacts on the environment. As a result of these findings, David G. Sawyer, State Conservationist, has determined that the preparation and review of an environmental impact statement is not necessary for this project.

The project purpose is to reduce flooding and sedimentation damages to the residences and businesses of McKee, Kentucky. The proposed project is the installation of flood retarding structure #3 (FRS#3) as originally planned and analyzed in the approved 1986 Pigeon Roost Watershed Plan and Environment Assessment.

The Notice of a Finding of No Significant Impact (FONSI) has been forwarded to the Environmental Protection Agency (EPA) and to various local agencies and interested parties. A limited number of copies of the FONSI are available by contacting the above address. Basic data developed during the environmental assessment are on file and may be reviewed by contacting Anita Arends, Resource Conservationist at 859-224-7354 or anita.arends@ky.usda.gov.

No administrative action on implementation of the proposal will be taken until 30 days after the date of this publication in the Federal Register.

Billye M. Haslett,
Acting State Conservationist.

[FR Doc. E5-7824 Filed 12-23-05; 8:45 am]

BILLING CODE 3410-16-P